DEPARTMENT OF AGRICULTURE

Forest Service

Land Between The Lakes National Recreation Area; Land and Resources Management Plan; Trigg and Lyon Counties, KY, Stewart County, TN

AGENCY: Forest Service, USDA.

ACTION: Notice of intent to prepare an environmental impact statement.

SUMMARY: The USDA Forest Service intends to prepare an environmental impact statement (EIS) in conjunction with development of a Land and Resources Management Plan (hereafter, “LRMP” or “Area Plan”) for Land Between The Lakes National Recreation Area (hereafter “LBL” or “Area”). The Area Plan will be prepared pursuant to requirements of 16 U.S.C. 1600 et seq.; the planning process will be initiated under the 1982 version of the Forest Service planning regulations (36 Code of Federal Regulations 219 et seq., as is provided for at 36 CFR 219.35(b) of the current regulations). The EIS will be prepared pursuant to requirements of 42 U.S.C. 4321 et seq. and 40 CFR 1500-1508. This notice identifies topics that will help focus our planning effort, displays the estimated dates for filing a Draft Environmental Impact Statement (DEIS), provides information concerning public participation, and provides the names and addresses of the responsible agency official and the individuals who can provide additional information.

DATES: Comments concerning the scope of the analysis must be received in writing on or before July 21, 2003. The draft environmental impact statement is expected by March, 2004 and the final environmental impact statement is expected by November, 2004.

ADDRESSES: Send written comments to Area Planner, Land Between The Lakes National Recreation Area, 100 Van Morgan Drive, Golden Pond, Kentucky 42211. Information also will be posted on the LBL Web page at http://www2.lbl.org/lbl/ADMIN/plan.htm. Electronic mail should be sent to focuslbl@fs.fed.us.

FOR FURTHER INFORMATION CONTACT: Barbara Wysock, Area Planner, at (270) 924-2161.

SUPPLEMENTARY INFORMATION: Background—The Setting: Located in western Kentucky and Tennessee, LBL encompasses 170,000 acres of rolling forested hills abundant with wildlife; more than 300 miles of undeveloped shoreline; 281 miles of trails, campgrounds, interpretive and educational facilities, and numerous lake access areas. Annual visitation to the Area averages around two million people. About 30 million people can reach LBL within 5-6 hours, and one-third of the population of the United States is only a day's drive away. LBL is bounded on the west by Kentucky Lake (an impoundment of the Tennessee River) and on the east by Lake Barkley (an impoundment of the Cumberland River). A canal that constitutes LBL's northern boundary connects the two lakes; the southern boundary is located just north of the community of Dover, Tennessee. President Kennedy established LBL by Executive Order in 1963.

Title V of Public Law 105-277 (commonly known as the “LBL Protection Act of 1998”, enacted October 28, 1998) transferred administrative jurisdiction of LBL from the Tennessee Valley Authority (TVA) to the United States Forest Service. The purposes for LBL as set forth in the Act include the following: (a) To protect and manage the resources of the National Recreation Area for optimum yield of outdoor recreation and environmental education through multiple use management; (b) to authorize, research, test, and demonstrate innovative programs and cost-effective management; (c) and to help stimulate the development of the surrounding region and extend the beneficial results as widely as practicable.

Current LBL Management Plan and Planning Regulations: The LBL Protection Act of 1998 directed the Forest Service to prepare an LRMP for LBL that conforms to the National Forest Management Act of 1976 (NFMA). The Act also provided that the Forest Service could continue to use the existing TVA Natural Resources Management Plan as appropriate to provide management direction for LBL until such time as an LRMP is adopted. By virtue of this fact, the preparation of the Area Plan is thus subject to the planning regulations contained in 36 CFR 219 et seq.

On May 20, 2002 the Department issued an interim final rule to extend the date by which LRMPs would otherwise be subject to the November 2000 regulations (67 FR 35431). The interim final rule allows units of the National Forest System to continue to use the 1982 version of the 36 CFR 219 regulations until such time as a revision to the November 2000 rule is adopted. Accordingly, LBL will develop the Area plan under the 1982 regulations.

The Role of the Area Plan: The Area Plan will guide the overall management of LBL to achieve Area-wide goals and objectives (or desired conditions). The Area Plan will be analogous to a county or municipal zoning plan. The results of these management goals will contribute to ecological sustainability, as well as to stimulate the development of local communities affected by LBL management activities. By direction of the LBL Protection Act of 1998, the Plan will have these emphases: Public recreational opportunities; conservation of fish and wildlife and their habitat; provision for diversity of native and desirable non-native plants, animals; opportunities for hunting and fishing; and environmental education. Decisions made in the Area Plan do not compel the agency to undertake particular site-specific projects and, thus, do not normally make any irreversible or irretrievable commitment of resources. The Area Plan, however, will strive to achieve these provisions; establish limitations on what actions may be authorized; prescribe the general distribution of activities across the landscape; and provide standards for conditions project decisions will meet. The following six decisions will be made in the Area Plan:

• Area-wide multiple-use goals and objectives. Goals describe a condition to be achieved sometime in the future. Objectives are concise, time-specific statements of measurable planned results that respond to the goals.

• Area-wide management requirements. These are standards for management activities, or advisable courses of action that apply across the entire area.

• Management area direction applying to future activities in each management area. This is the desired condition specified for certain portions of the Area, and the standards to help achieve that condition.

• Lands suited and not suited for natural resource management.

• Monitoring and evaluation requirements to gauge how well the plan is being implemented.

• Recommendations to Congress, such as wilderness designation, if any. It should be noted that these requirements are cited from the 1982 36 CFR 219 planning regulations.

Purpose and Need for Action

As discussed above, both the National Forest Management Act and the LBL Protection Act of 1998 require that an LRMP be prepared for the Area. The Area Plan will provide a blueprint to guide management decisions within the Area for a period of 10-15 years after the Plan is developed and approved. In addition to satisfying legal requirements, the Area Plan is necessary because:

1. TVA's 1994 Natural Resources Management Plan for LBL does not fully address planning regulations and policy required of the Forest Service. The plan also does not provide adequate guidance on some of the issues discussed below.

2. Certain resource conditions, trends, and visitor use patterns have changed during the past nine years. The new Area Plan will provide a conduit to incorporate new information and to address the changed conditions.

Proposed Action

Develop an Area plan that will meet the requirements of the National Forest Management Act and address the public issues.

Possible Alternatives

The actual alternatives presented in the DEIS will portray a full range of responses to the significant issues. The DEIS will examine the effects of implementing strategies to achieve desired conditions and will develop management objectives that would move LBL toward those desired conditions. A preferred alternative will be identified in the DEIS. The range of alternatives presented in the DEIS will include one that continues current management direction (that is, a “no action” alternative) and others that will address the range of issues developed in the scoping process.

Responsible Official

The Regional Forester for the Southern Region, located at 1720 Peachtree Street, NW., Atlanta, Georgia 30309, is the Responsible Official.

Nature of Decision To Be Made

The decision to be made and documented in a Record of Decision will be an Area plan that will meet the requirements of the National Forest Management Act and address all of the significant public issues developed through scoping.

Scoping Process

Public participation will be sought throughout the revision process, but will be particularly important at specific points along the way. The first formal opportunity to comment is during the scoping process. Scoping for the LBL Area Plan/EIS will include identifying visions for the future of the Area, as well as issues that should be addressed in the Area Plan/EIS. Scoping for the LBL Area Plan/EIS will be conducted in phases. The first phase is intended to encourage the public to describe their vision for the future of the Area. The following five public workshops are scheduled during this phase. Background information or announcements of additional meetings will be issued in news releases and on the LBL Web site. Requests to be added to the project mailing list can be directed to the Area Planner at the address above.

Date | Time | Location
Saturday, June 28, 2003 | 1 p.m. to 5 p.m | Lakeland Jamboree, Cadiz, Kentucky.
Monday, June 30, 2003 | 6:30 p.m. to 9:30 p.m | Weaks Community Center, Murray, Kentucky.
Tuesday, July 1, 2003 | 6:30 p.m. to 9:30 p.m | Mayfield Extension Office, Benton, Kentucky.
Thursday, July 10, 2003 | 6:30 p.m. to 9:30 p.m | Dover Elementary School, Dover, Tennessee.
Saturday, July 12, 2003 | 1 p.m. to 5 p.m | Lee S. Jones Community, Bldg, 304, Lee S. Jones Park Road (In The Park).

Preliminary Issues

The following is a summary of the preliminary issues. They are the product of the deliberations of Forest Service staff, historical input received from users of LBL, interested groups, and government agencies; as well as reviews of laws, regulations, policies, existing LBL plans, and scientific information. Additional information on these topics may be found by contacting LBL as stated above.

The following issues will evolve based on public input received through the scoping process. Some issues identified during scoping may not be appropriate for decision at the Plan level. Some may be more appropriate for project level decisions or be addressed through other processes outside of the land management planning process.

1. Recreation and Environmental Education

A primary part of the mission of LBL is to protect and manage the resources of LBL for optimum yield of outdoor recreation and environmental education for the American people. The 1994 NRMP addresses program objectives and guidelines for the management of natural resources, but does not adequately address the strategies for recreation and environmental education. These strategies must be articulated to accomplish the emphases of the LBL Protection Act and the requirements of NFMA. LBL receives over two million visits annually. Sightseeing is the primary attraction for visitors (33%), followed by fishing (19%), camping (12%), and hunting (10%). (TVA 1987) Less than 4%, or 6,400 acres, of LBL is developed with facilities for recreation, environmental education, or administration. Examples of special interest areas in LBL include Turkey Bay Off Highway Vehicle (OHV) area, Elk & Bison Prairie, Wranglers Campground, and Brandon Spring Group Center.

Issue: Management direction for the recreation resource must be added to the area plan. Should the current recreation-related services be maintained, increased, or decreased in the new plan to provide optimum yield of outdoor recreation, environmental education, and stimulation of regional economies?

2. Vegetation Management Practices

Forests: The current condition of LBL's 151,550 acres of forestland is largely the oak/hickory cover type (80%). The remaining 20% include cover types of maple/beech, pine and others.

LBL currently manages for a predominantly oak/hickory forest for these purposes: wildlife habitat; enhanced visual quality; increased environmental awareness about the use of environmentally responsible management practices; research methods and techniques in ecosystem management; and demonstration of sustainable forest management's compatibility with other uses.

The following methods are currently used to achieve these stated objectives: even-aged management; uneven-aged management; timber stand improvement; passive forest management for the biosphere reserve core areas; and deferred management where the determination of a management category has not been made.Open Lands: Approximately 12,050 acres (7%) of the land at LBL is in open land. LBL currently manages the open land to enhance viewing of the forest and lakes, provide early successional habitat for wildlife, and provide for native species restoration.

Issue: How will the vegetation on LBL be managed and what desired conditions would contribute best to the optimum yield of outdoor recreation, environmental education, and stimulation of regional economies?

3. Special Designations

LBL will evaluate areas for possible addition to a roadless inventory. This inventory would contain any areas that are suitable for recommendation in the Plan and subsequent Wilderness designation by Congress. NFMA requires that the Area conduct an inventory of these suitable areas and consider making recommendations in the Plan for Wilderness.

LBL currently maintains specially designated wildlife refuge areas and biosphere reserve core areas. Bear Creek (180 acres), Long Creek (40 acres), and Prior Creek (5 acres) Waterfowl Management Units are wetlands to provide habitat for shorebirds and migrating waterfowl. Approximately 42,500 acres of LBL land is placed in protected status under the UNESCO international biosphere reserve designation. Wildlife refuges and no-hunting areas are maintained on approximately 12,250 acres.

Issue: Should areas with special management designation continue to be managed under these designations or be changed? Should additional areas be designated for special management?

Comment Requested

This notice of intent initiates the scoping proces which guides the development of the environmental impact statement. The public involvement process creates an atmosphere of openness where all members of the public are free to share information with the Forest Service on a regular basis. The Forest Service is seeking information, ideas, comments, and assistance from individuals, organizations, tribal governments, and federal, state, and local agencies that may be interested or affected by the proposed action. Public participation will be solicited by notifying (in person, by mail, and/or by e-mail) known interested and affected publics. News releases will be used to inform the public of various steps of the planning process and locations of public involvement opportunities. This information also will be listed on the LBL Web site. Public participation opportunities include written comments, open houses, focus groups, and collaborative forums.

Early Notice of Importance of Public Participation in Subsequent Environmental Review: A draft environmental impact statement will be prepared for comment. The comment period on the draft environmental impact statement will be 90 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 90-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: May 29, 2003.
Roberta A. Moltzen,
Deputy Regional Forester, NR.

[FR Doc. 03-13964 Filed 6-3-03; 8:45 am]

BILLING CODE 3410-11-P